DEPARTMENT OF ENERGY

Federal Energy Regulatory Commission

[Docket No. RP96-200-060]

Reliant Energy Gas Transmission Company; Notice of Proposed Changes in FERC Gas Tariff

November 14, 2000.

Take notice that on November 3, 2000, Reliant Energy Gas Transmission Company (REGT) tendered for filing as part of its FERC Gas Tariff, Fifth Revised Volume No. 1, the following tariff sheets to be effective December 1, 2000.

Third Revised Sheet No. 8B

Original Sheet No. 8B.01

Original Sheet No. 8B.02

REGT states that the purpose of this filing is to reflect the addition of a new negotiated rate arrangement involving three contracts.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims. htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29582 Filed 11-17-00; 8:45 am]

BILLING CODE 6717-01-M